DEPARTMENT OF THE INTERIOR

National Park Service

National Register of Historic Places; Notification of Pending Nominations

Nominations for the following properties being considered for listing in the National Register were received by the National Park Service before December 11, 2004. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by January 19, 2005.

Carol D. Shull,
Keeper of the National Register of Historic Places.

ALABAMA

Baldwin County

Foley Downtown Historic District, Parts of Alston, N & S McZenzie, AL 98, E & W Laurel, Myrtle, Rose, and W. Orange, Foley, 04001496

Butler County

Greenville Downtown Historic District (Boundary Increase), (Greenville MRA), Roughly Adams, Bolling, Caldwell, Church, Commerce, Conecuh, Few and Walnut Sts., Greenville, 04001497

ARKANSAS

Ashley County

Greenview Cafe, 3rd Ave. and Arkansas St., Crossett, 04001507

Benton County

Illinois River Bridge, (Historic Bridges of Arkansas MPS), Cty Rd. 196 (Kincheloe Rd.) approx. 0.25 S of old AR 68, Pedro, 04001503

Railroad Cottage, 208 N. Rust, Gentry, 04001509

Springfield to Fayetteville Road—Cross Hollow Segment, (Cherokee Trail of Tears MPS), Benton Cty Rd. 83 through Cross Hollow, Lowell, 04001511

Springfield to Fayetteville Road—Brightwater Segment, (Cherokee Trail of Tears MPS), N Old Wire Rd./Benton Cty Rd. 67, S of U.S. 62, Brightwater, 04001513

Boone County

Evans—Kirby House, 611 S. Pine St., Harrison, 04001505

Clark County

Peake High School, 1600 Caddo St., Arkadelphia, 04001499

Clay County

County Home Cemetery, 3010 Heritage Park Rd., Piggott, 04001495

Craighead County

Mercantile Bank Building, 249 S. Main St., Jonesboro, 04001506

Desha County

Lewis, Jay, House, 12 Fairview Dr., McGehee, 04001501

Grant County

Byrd, Samuel D., Sr., Homestead, 15966 AR 270 W, Poyen, 04001494

Jefferson County

Brown, Floyd B., House, 1401 S. Georgia St., Pine Bluff, 04001493

Lafayette County

Camp White Sulphur Springs Confederate Cemetery, (Civil War Commemorative Sculpture MPS), Luckwood Rd. about one blk N of AR 54, Sulphur Springs, 04001512

Lafayette County Training School, 1046 Berry St., Stamps, 04001500

Miller County

Ahern, Patrick J., House, 403 Laurel St., Texarkana, 04001508

Pope County

Pottsville Commercial Historic District, 155, 160, 162 and 164 E. Ash St., Pottsville, 04001510

Pulaski County

Huie, George D.D., Grocery Store Building, 1400 N. Pine St., North Little Rock, 04001504

Palarm Bayou Pioneer Cemetery, Lot 13 Bin the Mountain Crest Subdivision, NE of AR 365, Morgan, 04001491

St. Peter's Rock Baptist Church, 1401 W 18th St., Little Rock, 04001492

USS RAZORBACK (SS-394), North bank of the Arkansas River in vic. of I-30 Bridge, North Little Rock, 04001502

Sharp County

Walker, Thomas, House, (Hardy, Arkansas MPS), 201 N. Spring St., Hardy, 04001490

Washington County

Noll, Willis, House, 531 N. Sequoyah Dr., Fayetteville, 04001498

ILLINOIS

Cook County

Georgian Hotel, 422 Davis St., Evanston, 04001534

KANSAS

Doniphan County

Brenner Vineyards Historic District, SW of jct. of Mineral Point and 95th Rds., Doniphan, 04001514

LOUISIANA

Iberia Parish

Hewes House, 1617 W. Main St., Jeanerette, 04001515

Natchitoches Parish

St. Matthew High School, 2552 LA 119, Melrose, 04001516

MISSOURI

Boone County

Central Dairy Building, (Columbia MRA), 1104-1106 East Broadway, Columbia, 04001519

Buchanan County

Burnside—Sandusky Gothic House, 720 S. 10th St., St. Joseph, 04001518

Cooper County

Blackwater Commercial Historic District, 100 Blk. of Main St., except for 118, 120 and 122 Main St., Blackwater, 04001520

NEVADA

Clark County

St. Thomas Memorial Cemetery, Magnasite Rd. off Moapa Valley Blvd., Overton, 04001529

NEW MEXICO

Santa Fe County

Fairview Cemetery, 1134 Cerrillos Rd., Santa Fe, 04001517

NEW YORK

New York County

American Thread Building, 260 W. Broadway, New York, 04001532

Ivey Delph Apartments, 17-19 Hamilton Terrace, New York, 04001531

Richmond County

Reformed Church on Staten Island, 54 Port Richmond Ave., Staten Island, 04001533

NORTH CAROLINA

Forsyth County

Waughtown—Belview Historic District, Roughly bounded by Dacian, Waughtown St, Bellwauwood, Sprague, Ernest, Goldfloss, and Gilbreath Dr., Winston-Salem, 04001521

West Salem Historic District, Roughly bounded by Business 40, Poplar, Salem Ave., Walnut, Shober, Hutton Sts, Granville Dr. and Beaumont St., Winston-Salem, 04001524

Guilford County

Foust, Daniel P., House, 439 Brightwood Church Rd., Whitsett, 04001522

Mecklenburg County

East Avenue Tabernacle Associated Reformed Presbyterian Church, 927 Elizabeth St., Charlotte, 04001523

Rozzell, Edward M., House, (Rural Mecklenburg County MPS), 11647 Rozzelles Ferry Rd., Charlotte, 04001530

Pitt County

Harris, Spencer, House, 1287 NC 121, Falkland, 04001527

Sampson County

Faison, William E., House, NC 50 at jct. with NC 1757 (10901 Suttontown Rd.), Giddensville, 04001526

Scotland County

Central School, 303 McRae St., Laurinburg, 04001525

VIRGINIA

Campbell County

Pioneer Theater—Auditorium, 100 S. Virginia St., Reno, 04001528

Craig County

Huffman House, Address Restricted, Newport, 04001546

Fauquier County

Yew Hill—Robert Ashby's Tavern—Shacklett's Tavern, 10030 John Marshall Hwy., Delaplane, 04001535

Goochland County

Mount Bernard Complex, VA 6, 2371 River Rd. W, Maidens, 04001537

Harrisonburg Independent city

Harrisonburg Downtown Historic District, Main St. and adj. areas bet. Kratzer Ave., and Grace St., Harrisonburg, 04001536

King And Queen County

Dixon, 402 Limehouse Rd., Shacklefords, 04001539

King George County

Rokeby, 5447 Kings Hwy, King George, 04001544

Loudoun County

Mt. Olive Methodist Episcopal Church, 20460 Gleedsville Rd., Leesburg, 04001542

Northampton County

Eastville Mercantile, 16429 Courthouse Rd., Eastville, 04001540

Powhatan County

Elmington, 3277 Maidens Rd., Powhatan, 04001538

Radford Independent City

West Radford Commercial Historic District, 100, 200 and 300 blks of W. Main St., Radford (Independent City), 04001541

Russell County

Jessees Mill, VA 645, 2.5 mi. N of VA 71, Cleveland, 04001543

Virginia Beach Independent City

Ferry Farm Plantation, 4136 Cheswick Ln., Virginia Beach (Independent City), 04001545

WISCONSIN

Milwaukee County

APPOMATTOX (Shipwreck), Off Atwater Beach, Shorewood, 04001547

WYOMING

Converse County

Commerce Block, Fourth and Birch Sts., Glenrock, 04001548

On August 16, 2004, the following property was removed from the National Register of Historic Places; and determined eligible for the National Register of Historic Places:

NORTH CAROLINA

Watauga County

Valle Crucis Historic District, along NC 194 and SR 1112 (Broadstone Rd.), Valle Crucis, 04000586

[FR Doc. 05-93 Filed 1-3-05; 8:45 am]

BILLING CODE 4312-51-P